FEDERAL TRADE COMMISSION

SES Performance Review Board

AGENCY: Federal Trade Commission.

ACTION: Notice.

SUMMARY: Notice is hereby given of the appointment of members to the FTC Performance Review Board.

FOR FURTHER INFORMATION CONTACT: Georgia Koliopoulos, Director of Human Resources, 600 Pennsylvania Avenue, NW., Washington, DC 20580, (202) 326-2364.

SUPPLEMENTARY INFORMATION: Publication of the Performance Review Board (PRB) membership is required by 5 U.S.C. 4314(c)(4). The PRB reviews and evaluates the initial appraisal of a senior executive's performance by the supervisor, and makes recommendations regarding performance ratings, performance awards, and pay-for-performance pay adjustments to the Chairman.

The following individuals have been designated to serve on the Commission's Performance Review Board:

Charles H. Schneider, Executive Director, Chairman;

Jeffrey Schmidt, Director, Bureau of Competition;

Lydia B. Parnes, Director, Bureau of Consumer Protection;

William Blumenthal, General Counsel;

Pauline M. Ippolito, Associate Director, Bureau of Economics.

By direction of the Commission.
Donald S. Clark,
Secretary.

[FR Doc. E6-15541 Filed 9-18-06; 8:45 am]

BILLING CODE 6750-01-P